COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes products and a service from the Procurement List previously furnished by such agencies.

DATES: Date added to and deleted from the Procurement List: September 2, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 3/9/2018 (83 FR 47) and 6/8/2018 (83 FR 111), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Vehicle Maintenance Facility Operation Service.

Mandatory for: Department of State, DS, Foreign Affairs Security Training Center, Fort Pickett, 1125 West Parade, Blackstone, VA.

Mandatory Source(s) of Supply: Skookum Educational Programs, Bremerton, WA.

Contracting Activity: Department of State, Acquisitions—AQM MOMENTUM

Service Type: Janitorial Service.

Mandatory for: US Air Force, Joint Warfare Analysis Center, Naval Support Activity-South Potomac, 4048 Higley Road, Dahlgren, VA.

Mandatory Source(s) of Supply: Melwood Horticultural Training Center, Inc., Upper Marlboro, MD.

Contracting Activity: Dept of the Air Force, FA4890 ACC AMIC.

Deletions

On 6/29/2018 (83 FR 126), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

7510-01-590-1496—Laser Toner Cartridge, HP 39A compatible

7510-01-590-1497—Laser Toner Cartridge, HP 96A compatible

7510-01-590-1498—Laser Toner Cartridge, HP 49A compatible

7510-01-590-1499—Laser Toner Cartridge, HP 49X compatible

7510-01-590-1501—Laser Toner Cartridge, HP 13A & 13X compatible

7510-01-590-1502—Laser Toner Cartridge, 43X compatible

7510-01-590-1506—Laser Toner Cartridge, HP 10A compatible

7510-01-600-5979—Cartridge, Toner, Monochrome Laser Printer, Double Yield, HP 38A Compatible, Black

Mandatory Sources(s) of Supply: Alabama Industries for the Blind, Talladega, AL. Lighthouse Works, Orlando, FL.

7510-01-625-1729—Toner Cartridge, Laser, Extra High Yield, Lexmark SC 630 Series

7510-01-625-1736—Toner Cartridge, Laser, Extra High Yield, HP P3015 Series Compatible,

7510-01-625-4080—Toner cartridge, Laser, Extra High Yield, HP Compatible for the M600,

7510-01-625-0849—Toner Cartridge, Laser, Double Yield, Compatible w/Lexmark E230 & other LM, Dell, & IBM printers

Mandatory Source(s) of Supply: Alabama Industries for the Blind, Talladega, AL.

Contracting Activity: General Services Administration, New York, NY.

NSN(s)—Product Name(s):

5510-00-171-7700—Stakes, Wood, 1″ x 2″ x 16″

5510-00-171-7701—Stakes, Wood, 1″ x 2″ x 14″

5510-00-171-7732—Stakes, Wood, 2″ x 2″ x 16″

5510-00-171-7733—Stakes, Wood, 2″ x 2″ x 12″

5510-00-171-7734—Stakes, Wood, 1″ x 2″ x 18″

8460-01-193-9769—Briefcase, Smoke Gray

8460-01-352-3064—Briefcase, Navy Blue

8460-01-364-9493—Attache Case, Black, 16 x 12 x 4

8460-01-385-7294—Briefcase, Black, 17-1/4″ x 11-1/2″ x 3-1/2

8460-01-391-5837—Briefcase, Forest Service Logo, Green,

8465-01-169-3996—Field Pack, Firefighters

Mandatory Source(s) of Supply: Helena Industries, Inc., Helena, MT.

Contracting Activity: General Services Administration, Fort Worth, TX.

NSN(s)—Product Name(s): 8340-00-951-6423—Kit, Ground Anchor.

Mandatory Source(s) of Supply: CW Resources, Inc., New Britain, CT.

Contracting Activity: Defense Logistics Agency Troop Support.

Service

Service Type: Food Service Attendant Service

Mandatory for: Pope Air Force Base.

Pope Air Force Base, NC.

Mandatory Source of Supply: ServiceSource, Inc., Oakton, VA.

Contracting Activity: Dept of the Air Force, FA4488 43 CONS LGC.

Michael R. Jurkowski,
Business Management Specialist, Business Operations.

[FR Doc. 2018-16647 Filed 8-2-18; 8:45 am]

BILLING CODE 6353-01-P